DEPARTMENT OF COMMERCE

National Oceanic and Atmospheric Administration

[Docket No. 010327081-1106-02]

RIN 0648

Request for Proposals for FY 2001—NOAA Educational Partnership Program With Minority Serving Institutions: Environmental Entrepreneurship Program

AGENCY: Office of Finance and Administration (OFA), National Oceanic and Atmospheric Administration (NOAA). Commerce.

ACTION: Notice of request for proposals.

SUMMARY: The Office of Finance and Administration (OFA) in the National Oceanic and Atmospheric Administration (NOAA), United States Department of Commerce, is soliciting proposals for the NOAA Educational Partnership Program with Minority Serving Institutions (EPP/MSI) Environmental Entrepreneurship Program. The goal of the Program is to strengthen the capacity of Minority Serving Institutions to foster student careers in environmental fields. The Program will provide funds on a competitive basis to eligible minority serving institutions to support education, training, research, and outreach in environmental fields related to NOAA's mission. The term “environmental fields” is defined as those environmental, natural and social sciences and engineering, professional and technical fields that are relevant to NOAA's mission which is to “describe and predict changes in the Earth's environment, and conserve and manage wisely the Nation's coastal and marine resources to ensure sustainable economic opportunities.”

Eligible Minority Serving Institutions (MSIs) include educational institutions identified by the Department of Education as (i) Historically Black Colleges and Universities, (ii) Hispanic-Serving Institutions, and (iii) Tribal Colleges and Universities (see Section III. Eligibility.)

In Fiscal Year 2001, NOAA expects to make available a total of $3,300,000 to support the EPP/MSI Environmental Entrepreneurship Program. The funds will be allocated competitively to support projects at eligible minority serving institutions, of up to three years duration, in the following two categories:

(1) Program Development and Enhancement Grants—approximately six grants, each up to $250,000 total for up to three years. These grants will support the development of effective academic education, training, and research programs, at eligible MSIs, focused on issues directly related to NOAA's environmental management, assessment, and prediction mission. The goal is to enhance education, training, and research opportunities that will strengthen developing environmental programs at MSIs and facilitate the entry of MSI students into careers in environmental fields.

(2) Environmental Restoration Demonstration Projects—approximately six grants, each up to $300,000 total for up to three years. These grants will support the engagement of MSI faculties and students in demonstration projects that integrate education and training opportunities with outreach and/or research activities focused on the application of sound methods and technologies to environmental restoration and ecosystem protection.

While partnerships, particularly with NOAA programs and facilities, are encouraged where appropriate, there is no requirement for a partner or a requirement for the applicant to provide matching funds. NOAA retains the right to allocate funds differently than indicated above if the number of proposals received is not balanced across these two categories, or the proposal quality does not warrant the stated allocation. In such cases, funds may be shifted between the two grant categories.

DATES: A Letter of Intent is requested by June 18, 2001. Proposals must be received by 5 p.m. (Eastern Daylight Savings Time) on July 20, 2001. (See Section VI. Instructions for Application: Timetable)

ADDRESSES: Proposals should be submitted to: Dr. Francis Schuler, EPP/MSI Environmental Entrepreneurship Program, National Oceanic and Atmospheric Administration, Room 11837, SSMC3 (R/SG), 1315 East-West Highway, Silver Spring, MD 20910.

FOR FURTHER INFORMATION CONTACT: Dr. Francis Schuler, EPP/MSI Environmental Entrepreneurship Program, NOAA, Room 11837 SSMC3 (R/SG), 1315 East-West Highway, Silver Spring, MD 20910. Tel. (301) 713-2445 ext. 158; e-mail: msi@oar.noaa.gov.

SUPPLEMENTARY INFORMATION:

I. Program Authority

Authority: 15 U.S.C. 1540, 49 U.S.C. 44720, 33 U.S.C. 883d, 33 U.S.C. 1442, 16 U.S.C. 1854(e), 16 U.S.C. 661, 16 U.S.C. 753(a), 16 U.S.C. 1451 et seq., 16 U.S.C. 1431, 33 U.S.C. 883a and Executive Orders 12876, 12900 and 13021. Catalog of Federal Assistance Number: 11.481—Educational Partnership Program with Minority Serving Institutions.

II. Program Description

Background

To meet its principal goals of environmental stewardship, assessment, and prediction, NOAA provides science, technology, and services to describe and predict changes in the Earth's environment, and conserve and manage wisely the Nation's coastal and marine resources to ensure sustainable economic opportunities. NOAA has made a commitment to expand and strengthen its partnership with MSIs. In accordance with NOAA's overall mission, and with the policy of NOAA and the U.S. Department of Commerce to increase education and training of underrepresented minorities in NOAA-related sciences at MSIs, the purposes of the NOAA EPP/MSI Environmental Entrepreneurship Program are:

1. To provide opportunities for undergraduate MSI students to gain exposure to the fields related to NOAA's mission and to increase the number of underrepresented minority students pursuing professional environmental-related career fields.

2. To build the capacity of educational programs in environmental fields at MSIs in order to facilitate entrance of well-prepared students into environmental career fields or advanced academic programs.

3. To accelerate the development of strong partnerships, where appropriate, with NOAA programs and facilities or with other universities and research institutions, industry, government agencies, and organizations (public, nonprofit, or private) that strengthen cooperative education and training, student experiential internships, and faculty development opportunities in environmental fields.

4. To design and encourage the structuring and implementation of curricula and training opportunities that facilitate the integration of environmental knowledge with entrepreneurship for students interested in pursuing careers in the field of environmental restoration.

Rationale

The recruitment of minorities, particularly underrepresented minorities, in the fields of science and engineering, lags behind expectations. According to the National Science Foundation (NSF), “Women, Minorities and Persons with Disabilities in Science and Engineering: 2000,” the percentage of minority scientists and engineers in the workforce ranges from 0.3 percent for American Indians to about 3.0 percent each for African-Americans and Hispanics.

The quality and nature of academic experiences at each point of the educational pipeline are crucial to bringing more minorities into environmental and engineering fields. Bachelors, Masters and Doctoral degrees are the underpinnings of science career achievement and employment. At both the undergraduate and graduate levels, Hispanics, African Americans, and Native Americans complete fewer degrees, relative to their demographic composition in the population, than majority ethnic groups. At the Bachelors level, NSF data show that African Americans received about 7.4 percent of the Bachelors degrees in science and engineering in 1996, Hispanics received 6.4 percent, and American Indians/Alaskan Natives receive 0.6 percent. At the Master's level, African Americans receive about 5.0 percent of the science and engineering degrees, Hispanics about 4.0 percent, and American Indians 0.4 percent. In FY 1998, MSIs received only 5.8 percent of Department of Commerce grants to institutions of higher education.

NOAA EPP/MSI Environmental Entrepreneurship Program

Proposals should be firmly grounded in “environmental fields” related to NOAA's mission. The term “environmental fields” is defined as those environmental, natural and social sciences and engineering, professional and technical fields that are relevant to NOAA's mission which is to “describe and predict changes in the Earth's environment, and conserve and manage wisely the Nation's coastal and marine resources to ensure sustainable economic opportunities.” (See http://www.noaa.gov/)

The long-term, underlying objective of the NOAA EPP/MSI Environmental Entrepreneurship Program is to enhance participation of MSI students and faculty in environmental fields related to NOAA's mission. Broadening the opportunity for eligible MSIs to participate in NOAA's missions will also serve to increase understanding of the role of environmental science and technology among underrepresented groups of the American population. Proposals should identify mechanisms to be employed that will encourage and enable members of underrepresented groups to enter and to remain in environmental fields, particularly in the NOAA-related sciences.

Proposals will be accepted that address one of the following categories:

(1) Program Development and Enhancement Grants—approximately six grants, each up to $250,000 total for up to three years. These grants will support the development of effective academic education, training, and research programs, at eligible MSIs, focused on issues directly related to NOAA's environmental management, assessment, and prediction missions. The goal is to enhance education, training, and research opportunities that will strengthen developing environmental programs at MSIs and facilitate the entry of MSI students into careers as entrepreneurs, scientists, resource managers, and community leaders in environmental fields related to NOAA's mission. Developing and enhancing education, training, and research capabilities at MSIs is intended to expand opportunities for students to develop the technical skills, insights, and experiences needed to equip them for the task of environmentally sound decision-making. Typical activities funded under this element may include, but are not limited to: Environmental science courses and curriculum enhancement; faculty exchange opportunities; training and research experiences and active learning opportunities for students; and other activities aimed at improving access to and retention of students from underrepresented groups in environmental fields related to NOAA's mission.

(2) Environmental Restoration Demonstration Project Grants—approximately six grants, each up to $300,000 total for up to three years. These grants will support the engagement of MSI faculty and students in demonstration projects that apply environmentally sound methods and technologies to environmental restoration and ecosystem protection. Demonstration projects should integrate education and training opportunities with outreach and/or research to, among other things, enhance and restore coastal and estuarine habitats, prevent marine pollution, reduce coastal hazards, assess marine protected areas, protect coral reefs, curb the spread of invasive species, restore fisheries and fisheries habitat, develop and expand aquaculture, plan community waterfront revitalization, mitigate and assess impacts of climate variability, or employ remotely sensed data and information systems to support environmental monitoring and prediction. Projects should involve students with academic training across the broad array of environmental fields needed to implement resource restoration projects. Research to understand the nature and extent of environmental degradation within communities and to test and monitor methods for preventing, controlling, and reducing the degradation of natural environments is encouraged.

Partnerships: For both the (1) Program Development and Enhancement Grants and the (2) Environmental Restoration Demonstration Project Grants, proposals should build creatively on existing expertise and research programs, as appropriate. Innovative, imaginative approaches to the issue are sought that take maximum advantage of the synergies of strong linkages and collaborations with partners such as other universities, research institutions, industry, Federal, state, local, and tribal government agencies, and other organizations (public, nonprofit, or private). While partnerships, particularly with NOAA programs and facilities, are encouraged where appropriate, there is no requirement for a partner or a requirement to provide matching funds.

Proposals: Proposals must be submitted by an eligible MSI and are expected to have a rigorous work plan, a strong rationale, and clearly identified and achievable goals. Proposals should emphasize innovative approaches to encouraging, preparing, and graduating MSI students trained in environmental science and related professional career fields. Projects should strive for multiple-year participation by students and include effective use of role models and mentors. A plan for evaluating the outcome of the project should be included.

III. Eligibility

Minority Serving Institutions eligible to submit proposals include institutions of higher education identified by the Department of Education as: (i) Historically Black Colleges and Universities, (ii) Hispanic-Serving Institutions, (iii) Tribal Colleges and Universities, on the “2001 United States Department of Education Accredited Post-Secondary Minority Institutions” list: http://www.ed.gov/ocr/minorityinst.html

IV. Evaluation Criteria

The evaluation criteria for proposals submitted for support under the NOAA EPP/MSI Environmental Entrepreneurship Program are weighted as follows:

(1) Technical and Educational Merit (40 percent): The degree to which the activity will advance or transfer knowledge and understanding in environmental science, education, or professional fields as they relate to NOAA's mission; the qualifications of the applicant (individual or team) to conduct the project, including the ability to involve individuals from the MSI's student population successfully in the project; the degree to which the activity explores creative and original concepts; the overall design and organization of the planned activity; the strength of the proposed partnership, if any, to help meet the goals of the project; and the sufficiency of resources for the plan of work.

(2) Impact of Proposed Project (60 percent): The contributions the project will make to enhancing the capability of the MSI to bring education and training opportunities to its student population in the environmental and professional fields related to NOAA's mission; the benefit accruing to a faculty member and the institution from participation in the NOAA EPP/MSI Environmental Entrepreneurship Program; the degree to which the proposed activity develops mechanisms that will broaden and sustain the participation of MSIs in NOAA-related environmental fields; the extent to which the proposed activity will enhance and improve education, training, and research at MSIs; and the adequacy of the plan for evaluating the outcome of the project. For environmental restoration demonstration projects, the degree to which the project is expected to help prevent, control, and reduce degradation to habitats will be considered.

V. Selection Procedures

Reviews of the proposals will be conducted by an independent peer review panel. Proposals will be ranked in accordance with the above evaluation criteria (Section IV) by the panel members. The panel members will provide individual evaluations on proposals, but there will be no consensus recommendation. Their recommendations and evaluations will be considered by NOAA in the final selection of proposals to be funded. NOAA may also consider programmatic or geographic balance and budget availability in the final selection of proposals to be funded. Investigators may be asked to modify objectives, work plans, budget levels, or project duration prior to final approval of an award.

VI. Instructions for Application

Timetable

June 18, 2001—Letters of Intent: To aid NOAA in planning the review, potential Principal Investigators are strongly encouraged to submit an optional Letter of Intent by June 18, 2001. Letters of Intent should be e-mailed (no attachments) to msi@oar.noaa.gov. Information contained should include a brief description of the scope of the work, the parties involved, and an estimated budget.

July 20, 2001—Proposals are due no later than 5 p.m. (Eastern Daylight Savings Time), July 20, 2001. (See Section VII. HOW TO SUBMIT for further details.)

August, 2001—Successful applicants can expect to be notified during the last week of August, 2001. Successful applicants may be asked to provide revised narratives and/or budgets which would be due the first week of September, 2001.

October 1, 2001—Funds will be awarded through a grant with an expected start date of October 1, 2001.

Proposal Guidelines

All proposals should be typewritten and may not exceed 20-pages. Tables and visual materials, including charts, graphs, maps, photographs and other pictorial presentations are included in the page limitation; literature citations are not included in the page limitation. All information needed for review of the proposal should be included in the main text; no appendices are permitted. The following information should be included:

(1) Signed title page: The title page should be signed by the Principal Investigator and the institutional representative and should clearly identify the program area being addressed by starting the project title with “NOAA EPP/MSI Environmental Entrepreneurship Program” followed by either “Program Development and Enhancement” or “Environmental Restoration Demonstration Project,” depending upon the particular type of grant for which you are applying. The Principal Investigator and institutional representative should be identified by full name, title, organization, telephone number, e-mail and mailing address. The total amount of Federal funds being requested should be listed for each budget period.

(2) Abstract: This information is very important. It is critical that the abstract accurately describe the essential elements of the project being proposed. The abstract should include: 1. Title: Use the exact title as it appears in the rest of the application. 2. Investigators: List the names and affiliations of each investigator who will significantly contribute to the project. Start with the Principal Investigator. 3. Funding request for each year of the project as well as total funding requested. 4. Project Period: Start and completion dates. Proposals should request a start date of October 1, 2001. 5. Objectives, Methodology, and Rationale: This should include a concise statement of the objectives of the project, the scientific or educational methodology to be used, and the rationale for the work proposed.

(3) Project Description: (a) Introduction/Background/Justification: What is the problem or opportunity being addressed and what is its scientific, technical, educational, or socioeconomic importance to the region or nation?

(b) Technical Plan: What are the goals, objectives, and anticipated approach of the proposed project? While a detailed work plan is not expected, the proposal should present evidence that there has been thoughtful consideration of the approach to the problem under study. If a partner is involved, what capabilities does the partner possess that will benefit the project, faculty member and students?

(c) Output/Anticipated Benefits: What measures will be used to evaluate the outcome of the proposed project? Upon completion of the project, what are the anticipated benefits to the MSI and its students?

(d) Literature Cited: Should be included here, but does not count against the page limit.

(4) Budget and Budget Justification: Form SF424A Budget Information Non-Construction Programs and budget justification narrative are required. There should be an annual budget for each year of the project as well as a cumulative budget for the entire project. Subcontracts should have a separate budget. Each annual budget should include a separate budget justification page that itemizes all budget items in sufficient detail to enable reviewers to evaluate the appropriateness of the funding requested. (Please see the NOAA budget guidelines at http://www.rdc.noaa.gov/grants/BUDGTGUD.PDF).

(5) Current and Pending Support: Applicants must provide information on all their current and pending Federal support for ongoing projects and proposals, including potential subsequent funding in the case of continuing grants. The proposed project and all other projects or activities using Federal assistance and requiring a portion of time of the principal investigator or other senior personnel should be included. The relationship between the proposed project and these other projects should be described, and the number of person-months per year to be devoted to the projects must be stated.

(6) Vitae (two pages maximum per investigator).

(7) Letters of commitment from partnering organizations (if applicable). Letters of commitment from partners must be included as an attachment to the application. The letters from partnering organizations should describe their commitment, identify key participants, and state briefly their role in the project.

(8) Standard Application Forms: Proposals submitted in response to this solicitation must be complete and submitted in accordance with instructions in the standard NOAA Grants Application package. Applicants may obtain all required application forms through the NOAA internet site http://www.rdc.noaa.gov/grants/pdf or from Ms. Arlene Simpson Porter, NOAA Grants Management Division, (301) 713-0962 ext. 152, Arlene.S.Porter@noaa.gov.

(a) Standard Forms 424, Application for Federal Assistance; SF424A Budget Information Non-Construction Programs; SF424B Assurances Non-Construction, (Rev 4-88). Please note that both the Principal Investigator and an administrative contact should be identified in Section 5 of the SF424 or Section 10, applicants should enter “11.481” for the CFDA Number and “Educational Partnership Program with Minority Serving Institutions” for the title. The form must contain the original signature of an authorized representative of the applying institution.

(b) Primary Applicant Certifications. All primary applicants must submit a completed Form CD-511, “Certifications Regarding Debarment, Suspension and Other Responsibility Matters; Drug-Free Workplace Requirements and Lobbying,” and the following explanations are hereby provided:

(i) Non-Procurement Debarment and Suspension. Prospective participants (as defined at 15 CFR Part 26, Section 105) are subject to 15 CFR Part 26, “Non-Procurement Debarment and Suspension” and the related section of the certification form prescribed above applies;

(ii) Drug-Free Workplace. Grantees (as defined at 15 CFR Part 26, Section 605) are subject to 15 CFR Part 26, Subpart F, “Government-wide Requirements for Drug-Free Workplace (Grants)” and the related section of the certification form prescribed above applies;

(iii) Anti-Lobbying. Persons (as defined at 15 CFR Part 28, Section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000; and

(iv) Anti-Lobbying Disclosures. Any applicant that has paid or will pay for lobbying using any funds must submit an SF-LLL, “Disclosure of Lobbying Activities,” as required under 15 CFR Part 28, Appendix B.

(c) Lower Tier Certifications. Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.” ORM CD-512 is intended for the use of recipients and should not be transmitted to the Department of Commerce (DOC). SF-LLL submitted by any tier recipient or subrecipient should be submitted to DOC in accordance with the instructions contained in the award document.

VII. How To Submit

Although investigators are not required to submit more than three copies of the proposal, the normal review process utilizes 15 copies. Applicants are encouraged to submit sufficient proposal copies for the full review process if they wish all reviewers to receive color, unusually sized (not 8.5″ × 11″), or otherwise unusual materials submitted as part of the proposal. Only three copies of the Federally required forms are needed.

Proposals must be received by 5 p.m. (Eastern Daylight Savings Time) on July 20, 2001. The address is: Dr. Francis Schuler, EPP/MSI Environmental Entrepreneurship Program, NOAA, Room11837 SSMC3 (R/SG), 1315 East-West Highway, Silver Spring, MD 20910.

Facsimile transmissions and electronic mail submission of applications will not be accepted.

VIII. Other Requirements

(A) Federal Policies and Procedures—Recipients and subrecipients are subject to all Federal laws and Federal and Department of Commerce (DOC) policies, regulations, and procedures applicable to Federal financial assistance awards.

(B) Past Performance—Unsatisfactory performance under prior Federal awards may result in an application not being considered for funding.

(C) Pre-Award Activities—If applicants incur any costs prior to an award being made, they do so solely at their own risk of not being reimbursed by the Government. Notwithstanding any verbal or written assurance that may have been received, there is no obligation on the part of DOC to cover pre-award costs.

(D) No Obligation for Future Funding—If an application is selected for funding, DOC has no obligation to provide any additional future funding in connection with that award. Renewal of an award to increase funding or extend the period of performance is at the total discretion of DOC.

(E) Delinquent Federal Debts—No award of Federal funds shall be made to an applicant who has an outstanding delinquent Federal debt until:

(1) The delinquent account is paid in full,

(2) A negotiated repayment schedule is established and at least one payment is received, or

(3) Other arrangements satisfactory to DOC are made.

(F) Name Check Review—All non-profit and for-profit applicants are subject to a name check review process. Name checks are intended to reveal if any key individuals associated with the applicant have been convicted of or are presently facing criminal charges such as fraud, theft, perjury, or other matters which significantly reflect on the applicant's management honesty or financial integrity.

(G) False Statements—A false statement on an application is grounds for denial or termination of funds and grounds for possible punishment by a fine or imprisonment as provided in 18 U.S.C. 1001.

(H) Purchase of American-Made Equipment and Products—Applicants are hereby notified that they will be encouraged, to the greatest extent practicable, to purchase American-made equipment and products with funding provided under this program.

(I) For awards receiving funding for the collection or production of geospatial data (e.g., GIS data layers), the recipient will comply to the maximum extent practicable with E.O. 12906, Coordinating Geographic Data Acquisition and Access, The National Spatial Data Infrastructure, 59 FR 17671 (April 11, 1994). The award recipient shall document all new geospatial data collected or produced using the standard developed by the Federal Geographic Data Center, and make that standardized documentation electronically accessible. The standard can be found at the following Internet website: (http://www.fgdc.gov/standards/standards/html).

Classification

Prior notice and an opportunity for public comments are not required by the Administrative Procedure Act or any other law for this notice concerning grants, benefits, and contracts. Therefore, a regulatory flexibility analysis is not required for purposes of the Regulatory Flexibility Act.

This action has been determined to be not significant for purposes of E.O. 12866.

This notice contains collection of information requirements subject to the Paperwork Reduction Act. Standard Forms 424, 424A, and 424B have been approved under control numbers 0348-0043, 0348-0044, and 0348-0040. Notwithstanding any other provision of the law, no person is required to respond to, nor shall any person be subject to a penalty for failure to comply with, a collection of information subject to the requirements of the Paperwork Reduction Act, unless that collection of information displays a currently valid OMB Control Number.

Dated: May 15, 2001.
Louisa Koch,
Chair, NOAA Minority Serving Institutions Council.

[FR Doc. 01-12607 Filed 5-17-01; 8:45 am]

BILLING CODE 3510-12-P